DEPARTMENT OF THE TREASURY

Senior Executive Service; Legal Division Performance Review Board

AGENCY: Department of the Treasury.

ACTION: Notice of members of the Legal Division Performance Review Board (PRB).

SUMMARY: This notice announces the appointment of members of the Legal Division PRB. The purpose of this Board is to review and make recommendations concerning proposed performance appraisals, ratings, bonuses, and other appropriate personnel actions for incumbents of SES positions in the Legal Division.

DATES: October 8, 2020.

FOR FURTHER INFORMATION CONTACT: Office of the General Counsel, Department of the Treasury, 1500 Pennsylvania Avenue NW, Room 3000, Washington, DC 20220, Telephone: (202) 622-0283 (this is not a toll-free number).

SUPPLEMENTARY INFORMATION:

Composition of Legal Division PRB

The Board shall consist of at least three members. In the case of an appraisal of a career appointee, more than half the members shall consist of career appointees. Composition of the specific PRBs will be determined on an ad hoc basis from among the individuals listed in this notice.

The names and titles of the PRB members are as follows:

Heather Book, Chief Counsel, Bureau of Engraving and Printing;

Ryan Brady, Deputy General Counsel,

Michael Briskin, Deputy Assistant General Counsel (General Law and Regulation)

Michelle Dickerman, Deputy Assistant General Counsel (Litigation, Oversight, and Financial Stability)

Eric Froman, Assistant General Counsel (Banking and Finance);

Anthony Gledhill, Chief Counsel, Alcohol Tobacco, Tax, and Trade Bureau;

Jimmy Kirby, Chief Counsel, Financial Crimes Enforcement Network;

Jeffrey Klein, Deputy Assistant General Counsel (International Affairs);

Stephen Milligan, Deputy Assistant General Counsel (Banking and Finance);

Helen Morrison, Deputy Benefits Tax Counsel;

Brian Morrissey, Principal Deputy General Counsel;

Kevin Nichols, Deputy International Tax Counsel;

John Schorn, Chief Counsel, U.S. Mint;

James Stern, Deputy General Counsel;

Brian Sonfield, Assistant General Counsel (General Law, Ethics and Regulation);

Drita Tonuzi, Deputy Chief Counsel (Operations), Internal Revenue Service;

Heather Trew, Assistant General Counsel (Enforcement & Intelligence);

Krishna Vallabhaneni, Tax Legislative Counsel;

Hanoi Veras, Deputy Assistant General Counsel (Ethics)

Carol Weiser, Benefits Tax Counsel;

Paul Wolfteich, Deputy Assistant General Counsel (Banking and Finance) and;

Brett York, Deputy Tax Legislative Counsel.

(Authority: 5 U.S.C. 4314(c)(4))

Brian J. Sonfield,
Assistant General Counsel (General Law, Ethics & Regulation).

[FR Doc. 2020-22237 Filed 10-7-20; 8:45 am]

BILLING CODE 4810-25-P